FEDERAL ELECTION COMMISSION

Sunshine Act Meeting

FEDERAL REGISTER CITATION NOTICE OF PREVIOUS ANNOUNCEMENT: 84 FR 716.

PREVIOUSLY ANNOUNCED TIME AND DATE OF THE MEETING: Tuesday, February 5, 2019 at 10:00 a.m. and its continuation at the conclusion of the open meeting on February 7, 2019.

CHANGES IN THE MEETING:

This meeting will also discuss:

Matters relating to internal personnel decisions, or internal rules and practices.

Information the premature disclosure of which would be likely to have a considerable adverse effect on the implementation of a proposed Commission action.

* * * * *

CONTACT FOR MORE INFORMATION: Judith Ingram, Press Officer, Telephone: (202) 694-1220.

Laura E. Sinram,
Deputy Secretary of the Commission.

[FR Doc. 2019-01184 Filed 2-1-19; 11:15 am]

BILLING CODE 6715-01-P